DEPARTMENT OF COMMERCE

National Oceanic and Atmospheric Administration

[I.D. 012802B]

South Atlantic Fishery Management Council; Public Meeting

AGENCY: National Marine Fisheries Service (NMFS), National Oceanic and Atmospheric Administration (NOAA), Commerce.

ACTION: Notice of Law Enforcement Committee Meeting

SUMMARY: The South Atlantic Fishery Management Council (Council) will hold a joint meeting of its Law Enforcement Committee and Law Enforcement Advisory Panel (AP).

DATES: The meeting will take place on Tuesday, February 26, 2002, from 1:30 p.m until 5 p.m. and Wednesday, February 27, 2002, from 8:30 a.m. until 4 p.m.

ADDRESSES: The meeting will be held at the Town & Country Inn, 2008 Savannah Highway, Charleston, SC 29407; 843/571-1000; fax: 843/766-9444.

FOR FURTHER INFORMATION CONTACT: Kim Iverson, Public Information Officer, South Atlantic Fishery Management Council, One Southpark Circle, Suite 306, Charleston, SC 29407; phone: 843/571-4366; fax: 843/769-4520.

SUPPLEMENTARY INFORMATION: The Committee and AP will address the following issues: review and comment on the Council’s proposed marine protected area sites; Vessel Monitoring System use in the Southeast; the status of cooperative law enforcement agreements in the South Atlantic; an on-line computer reporting system; a report on NOAA General Counsel enforcement activities; a review of 50 CFR Part 622 regulations; and discuss the use of commercial vessels under contract for law enforcement activities.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to the Council office (see ADDRESSES) by February 22, 2002.

Dated: February 1, 2002.
Richard W. Surdi,
Acting Director, Office of Sustainable Fisheries, National Marine Fisheries Service.

[FR Doc. 02-2999 Filed 2-6-02; 8:45 am]

BILLING CODE 3510-22-S